UTAH RECLAMATION MITIGATION AND CONSERVATION COMMISSION

Notice of Availability of the Decision Notice and Finding of No Significant Impact (FONSI) for Implementation of Fish and Wildlife Mitigation Features, Uinta Basin Replacement Project in Duchesne County, UT

AGENCY: Utah Reclamation Mitigation and Conservation Commission.

ACTION: Notice of availability.

SUMMARY: Pursuant to section 102(2)(c) of the National Environmental Policy Act of 1969, as amended, the Utah Reclamation Mitigation and Conservation Commission (Mitigation Commission) proposes to implement measures to mitigate for adverse impacts on fish and wildlife resources associated with the Uinta Basin Replacement Project.

The Uinta Basin Replacement Project is a feature of the Bonneville Unit of the Central Utah Project, authorized by Section 203 of the Central Utah Project Completion Act (CUPCA; Titles II through VI of Pub. L. 102-575, as amended). The U.S. Department of the Interior—Central Utah Project (CUP) Completion Act Office, and the Central Utah Water Conservancy District documented environmental effects of constructing the Uinta Basin Replacement Project in a 2001 environmental assessment (EA). The Draft EA was developed with public input and the Final EA refined based upon public comment. The U.S. Department of the Interior—CUP Completion Act Office issued a Finding of No Significant Impact (FONSI) on October 19, 2001. The Lake Fork Alternative was selected for implementation and will be constructed near Upalco, Utah. The project will affect resources in the upper Lake Fork and Yellowstone river drainages. The Mitigation Commission has responsibility under Section 301(f)(3) of CUPCA to mitigate for adverse impacts on fish and wildlife resources.

Based on analysis contained in the Final EA, the Mitigation Commission commits to implement the following elements of fish and wildlife mitigation or enhancement as follows: (1) Modify outlet works at Moon Lake Dam and Reservoir to allow for winter-time operation. Such operation is necessary to provide increased instream flows in Lake Fork River downstream of the Moon Lake Dam, to fulfill a project purpose and commitment. (2) Stabilize, at elevations at or within five feet of natural elevation, 13 high mountain lakes in the Lake Fork and Yellowstone river headwaters (Brown Duck, Kidney, Island and Clements in the Lake Fork drainage; Bluebell, Drift, Five Point, Superior, Farmers, East Timothy, White Miller, Deer and Water Lily in the Yellowstone drainage). (3) Mitigate for all wetland/wildlife habitat impacts, including those required by the U.S. Army Corps of Engineers Section 404 Permit, by restoring, creating or replacing wetlands and wildlife habitats impacted by construction and operation of the Lake Fork Alternative.

The above actions meet the Mitigation Commission's objective of implementing the Uinta Basin Replacement Project Mitigation program element of its five-year plan, and do so in the least environmentally damaging manner. Of the alternatives analyzed under the EA, the Lake Fork Alternative (which this decision implements as it pertains to fish and wildlife mitigation and enhancement) provides the least environmentally damaging alternative and the greatest degree of mitigation and enhancement. The decision is consistent with the U.S. Department of the Interior—CUP Completion Act Office's October, 2001 FONSI.

ADDRESSES: Copies of the FONSI can be obtained from the Utah Reclamation Mitigation and Conservation Commission, 102 West 500 South, Suite 315, Salt Lake City, Utah, 84101.

The FONSI may also be viewed on our agency Web site via the following address: http://www.mitigationcommission.gov/news.html

FOR FURTHER INFORMATION CONTACT: Mr. Richard Mingo, Planning Coordinator, 801-524-3146.

Dated: February 24, 2004.
Michael C. Weland,
Executive Director, Utah Reclamation Mitigation and Conservation Commission.

[FR Doc. 04-5012 Filed 3-4-04; 8:45 am]

BILLING CODE 4310-05-P